DEPARTMENT OF DEFENSE

Office of the Secretary

[Docket ID DoD-2022-OS-0092]

Submission for OMB Review; Comment Request

AGENCY: Chief Information Officer (CIO), Department of Defense (DoD).

ACTION: 30-Day information collection notice.

SUMMARY: The DoD has submitted to the Office of Management and Budget (OMB) for clearance the following proposal for collection of information under the provisions of the Paperwork Reduction Act.

DATES: Consideration will be given to all comments received by December 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD's Defense Industrial Base (DIB) Cybersecurity (CS) Program Point of Contact Information; OMB Control Number 0704-0490.

Type of Request: Extension without change.

Number of Respondents: 935.

Responses per Respondent: 1.

Annual Responses: 935.

Average Burden per Response: 20 minutes.

Annual Burden Hours: 312.

Needs and Uses: DoD's Defense Industrial Base (DIB) Cyber Security (CS) Program enhances and supports DoD's capabilities to safeguard information that resides on, or transits, DIB unclassified information systems. The DIB CS Program is focused on sharing cyber threat information and cybersecurity best practices with DIB CS participants. This collection is necessary for DoD to collect, share, and manage point of contact (POC) information for program administration and management purposes. The Government will collect typical business POC information from all DIB CS participants during the application process to join the program. This information includes company name and identifiers such as cage code and mailing address, employee names and titles, corporate email addresses, and corporate telephone numbers of company-identified POCs. DIB CS Program POCs include the Chief Executive Officer, Chief Information Officer, Chief Information Security Officer, and Corporate or Facility Security Officer, or their equivalents, as well as those administrative, policy, technical staff, and personnel designated to interact with the Government in executing the DIB CS Program. After joining the program, DIB CS participants provide updated POC information to DoD when personnel changes occur.

Affected Public: Businesses or other for-profit; Not-for-profit Institutions.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: November 22, 2022.
Aaron T. Siegel,
Alternate OSD Federal Register Liaison Officer, Department of Defense.

[FR Doc. 2022-25842 Filed 11-25-22; 8:45 am]

BILLING CODE 5001-06-P